SOCIAL SECURITY ADMINISTRATION

Statement of Organization, Functions and Delegations of Authority: Correction

AGENCY: Social Security Administration.

ACTION: Correction Notice.

SUMMARY: This notice corrects the notice: Social Security Administration—Statement of Organization, Functions and Delegations of Authority, published in the Federal Register on September 26, 1997 (62 FR 50649).

SUPPLEMENTARY INFORMATION: In the notice document 97-25611, which appeared on pages 50649 and 50650 in the issue of Friday, September 26, 1997, we show two incorrect SAC's for the Office of Publication and Logistics Management in the Office of the Deputy Commissioner, Finance, Assessment and Management (ODCLCA). This correction notice corrects that mistake. Make the correction as follows:

On page 50649, in the second column under “Organization”, item D, change the SAC in parentheses from S1SC to S1SH and in item E, change the SAC in parentheses from S1SH to S1SN.

On page 50649, in the second column under “Functions”, item D, change the SAC in parentheses from S1SC to S1SH. On page 50649, in the third column under “Functions”, item E, change the SAC in parentheses from S1SH to S1SN.

Dated: November 15, 2000.
Lewis H. Kaiser,
Director, Center for Classification and Organization Management.

[FR Doc. 00-29732 Filed 11-20-00; 8:45 am]

BILLING CODE 4191-02-U